DEPARTMENT OF LABOR

Employment and Training Administration

[TA-W-75,033]

Indianapolis Metal Center, a Division of General Motors Company, Including Workers Whose Wages Were Previously Reported Under FEIN 38-0572515, Including On-Site Leased Workers From Aerotek, Comprehensive Logistics Company, Inc., Hewlett Packard, Ideal Setech, LLC, Quaker Chemical Co., Securias Security Services US, Robinson Solutions, Watge Mangement, Inc., American Food and Vending, Key Office Service, Paragon Technologies, Voith Industrial Services, Inc., and VMX International, LLC, Indianapolis, IN; Amended Certification Regarding Eligibility To Apply for Worker Adjustment Assistance

In accordance with Section 223 of the Trade Act of 1974, as amended (“Act”), 19 U.S.C. 2273, the Department of Labor issued a Certification of Eligibility to Apply for Worker Adjustment Assistance on February 18, 2011, applicable to workers of Indianapolis Metal Center, a division of General Motors Company, including workers whose wages were previously reported under FEIN 38-0572515, including on-site leased workers from Aerotek, Comprehensive Logistics Company, Inc., Hewlett Packard, Ideal Setech, LLC, Quaker Chemical Co., Securitas Security Services US, Robinson Solutions, Waste Management, Inc., American Food and Vending, Key Office Services, and Paragon Technologies, Indianapolis, Indiana. The workers produce automotive stampings. The notice was published in the Federal Register on March 10, 2011 (76 FR 13230).

At the request of the State agency, the Department reviewed the certification for workers of the subject firm. The company reports that workers leased from Voith Industrial Services, Inc., and VMX International, LLC were employed on-site at the Indianapolis, Indiana location of Indianapolis Metal Center, a division of General Motors Company, including workers whose wages were previously reported under FEIN 38-0572515. The Department has determined that these workers were sufficiently under the control of Indianapolis Metal Center, a division of General Motors Company, including workers whose wages were previously reported under FEIN 38-0572515 to be considered leased workers.

Based on these findings, the Department is amending this certification to include workers leased from Voith Industrial Services, Inc., and VMX International, LLC working on-site at the Indianapolis, Indiana location of Indianapolis Metal Center, a division of General Motors Company, including workers whose wages were previously reported under FEIN 38-0572515.

The amended notice applicable to TA-W-75,033 is hereby issued as follows:

All workers of Indianapolis Metal Center, a division of General Motors Company, including workers whose wages were previously reported under FEIN 38-0572515, including on-site leased workers from Aerotek, Comprehensive Logistics Company, Inc., Hewlett Packard, Ideal Setech, LLC, Quaker Chemical Co., Securitas Security Services US, Robinson Solutions, Waste Management, Inc., American Food and Vending, Key Office Services, Paragon Technologies, Voith Industrial Services, Inc., and VMX International, LLC, Indianapolis, Indiana, who became totally or partially separated from employment on or after December 20, 2009, through February 18, 2013, and all workers in the group threatened with total or partial separation from employment on the date of certification through two years from the date of certification, are eligible to apply for adjustment assistance under Chapter 2 of Title II of the Trade Act of 1974, as amended.

Signed at Washington, DC, this 15th day of June 2011.
Michael W. Jaffe,
Certifying Officer, Office of Trade Adjustment Assistance.

[FR Doc. 2011-15848 Filed 6-23-11; 8:45 am]

BILLING CODE 4510-FN-P